DEPARTMENT OF COMMERCE

International Trade Administration

Public Hearing on Establishment of Import Restrictions on Certain Steel Products From Ukraine to the United States

AGENCY: Import Administration, International Trade Administration, Department of Commerce.

EFFECTIVE DATE: January 16, 2001.

FOR FURTHER INFORMATION CONTACT: For procedural questions concerning the public hearing and/or public comments, contact Lesley Stagliano at (202) 482-0190. All other questions should be directed to Edward Yang at (202) 482-0406.

SUPPLEMENTARY INFORMATION: On June 1, 1990, pursuant to Title IV of the Trade Act of 1974 (the Trade Act), the Governments of the United States of America and Union of Soviet Socialist Republics entered into the Agreement on Trade Relations Between the United States of America and the Union of Soviet Socialist Republics. On May 6, 1992, this agreement became effective between the United States of America and Ukraine (the 1992 Agreement). Article XI of the 1992 Agreement provides that the Parties will consult with a view toward finding means of remedying or preventing actual or threatened market disruption, and it authorizes the Parties to take action, including the imposition of import restrictions, to achieve this goal.

In January 2001, the United States Department of Commerce and the Ministry of Economy of Ukraine entered into negotiations and consultations pursuant to Article XI of the Agreement on Trade Relations Between the United States of America and Ukraine. In these negotiations, the Parties are considering whether the conditions of Article XI have been met with respect to U.S. imports of certain steel products from Ukraine and, if so, what action should be taken.

Pursuant to Article XI, the United States is considering establishing import restrictions on Ukrainian exports to the United States of the following 21 steel products:

1. Steel Concrete Reinforcing Bar (Re-Bar)

2. Hot-Rolled Carbon Quality Steel Products

3. Cold-Rolled Carbon Quality Steel Products

4. Hot-Rolled Steel Stainless and Alloy Products

5. Cold-Rolled Stainless, Alloy and Other Carbon Steel Products

6. Galvanized Sheet Products

7. Other Metallic Coated Flat-Rolled Products

8. Rails

9. Electrical Sheet Products

10. Heavy Structural Shapes

11. Hot-Rolled Bars

12. Hot-Rolled Light Shapes

13. Cold-Finished Bars

14. Certain Tin Mill Products Pipe and Tube Products

15. Wire Rod Products

16. Tool Steel

17. Drawn Wire

18. Wheels and Axles

19. Fabricated Structural Shapes

20. Semifinished Steel Products

21. Pig Iron

Each category of steel would have a separate export limit. In addition to the issuance of export licenses by the Ministry of Economy of Ukraine, the United States would establish a border enforcement mechanism to ensure compliance with the export limits. The border mechanism will be in the form of denial of entry for any shipment of steel, covered by the categories listed above, which exceeds the limits or lacks the required documents.

Section 125(c) of the Trade Act (19 U.S.C. 2135(c)) provides that whenever the United States, acting in pursuance of any of its rights or obligations under any trade agreement entered into pursuant to the Trade Act, modifies any obligation with respect to the trade of any foreign country or instrumentality, the President is authorized to proclaim increased duties or other import restrictions, to the extent, at such times, and for such periods as he deems necessary or appropriate, in order to exercise the rights or fulfill the obligations of the United States.

Section 125(f) of the Trade Act (19 U.S.C. 2135(f)) requires the President to provide the opportunity for interested parties to present views at a public hearing prior to taking action pursuant to section 125(b), (c), or (d) of the Trade Act (19 U.S.C. 2135(b), (c), or (d)). Such an opportunity is being provided by scheduling such a hearing for Wednesday, January 17, 2001, at the United States Department of Commerce. If the consultations and negotiations with the Ministry of Economy of Ukraine result in a tentative agreement, the Department will publish the proposed agreement on its Import Administration website (http://ia.ita.doc.gov) no later than 12:00 p.m. on Tuesday, January 16, 2001, and conduct the hearing on January 17, 2001.

Notice of Public Hearing: Pursuant to section 125(f) of the Trade Act of 1974 (19 U.S.C. 2135(f)), the International Trade Administration of the Department of Commerce, has scheduled a public hearing beginning at 10 a.m., on January 17, 2001, at Room 1412 of the Herbert C. Hoover Building, U.S. Department of Commerce, 14th and Constitution Ave., NW, Washington, DC.

Requests to Present Oral Testimony: Parties wishing to testify orally at the hearing must provide written notification of their intention not later than 5 p.m., January 16, 2001 to Troy H. Cribb, Assistant Secretary for Import Administration: In re Public Hearing on Establishment of Import Restrictions on Certain Steel Products From Ukraine to the United States, Room 1870, Herbert C. Hoover Building, U.S. Department of Commerce, 14th and Constitution Ave., NW, Washington, DC. The notification should include (1) the name of the person presenting the testimony, their address and telephone number; (2) the organization or company they are representing, if appropriate; (3) a list of issues to be addressed; and (4), if applicable, any request for an extension of the time limitation on the oral presentation. This notification may be submitted via facsimile to Vicki Sullivan at (202) 273-0957. Those parties presenting oral testimony must also submit a written brief, in 20 copies, not later than 10 a.m., January 18, 2001, to the above-mentioned address. Hearing presentations should be limited to no more than five minutes to allow for possible questions from the Chairman and the panel. Additional time for oral presentations may be granted as time and the number of participants permit. Any business proprietary material must be clearly marked as such on the cover page (or letter) and succeeding pages. Such submissions must be accompanied by a public summary thereof.

Written Briefs: Those persons not wishing to participate in the hearing may submit written comments, in 20 typed copies, not later than 10 a.m., January 18, 2001, to Troy H. Cribb, Assistant Secretary for Import Administration: In re Public Hearing on Establishment of Import Restrictions on Certain Steel Products From Ukraine to the United States, Room 1870, Herbert C. Hoover Building, U.S. Department of Commerce, 14th and Constitution Ave., NW, Washington, DC. Comments should state clearly the position taken and describe with particularity the evidence supporting that position. Any business proprietary material must be clearly marked as such on the cover page (or letter) and succeeding pages. Such submissions must be accompanied by a public summary thereof. Public submissions will be available for public inspection at the Import Administration Central Records Unit. An appointment to review the file may be made by contacting Thomas Harley at (202) 482-1248.

Dated: January 10, 2001.
Troy H. Cribb,
Assistant Secretary for Import Administration.

[FR Doc. 01-1247 Filed 1-12-01; 8:45 am]

BILLING CODE 3510-DS-P